DEPARTMENT OF COMMERCE

Foreign-Trade Zones Board

[S-320-2025]

Approval of Subzone Status; Elite Logistix, LLC; Rock Hill, South Carolina

On September 12, 2025, the Executive Secretary of the Foreign-Trade Zones (FTZ) Board docketed an application submitted by the South Carolina State Ports Authority, grantee of FTZ 38, requesting subzone status subject to the existing activation limit of FTZ 38, on behalf of Elite Logistix, LLC, in Rock Hill, South Carolina.

The application was processed in accordance with the FTZ Act and Regulations, including notice in the Federal Register inviting public comment (90 FR 44799, September 17, 2025). The FTZ staff examiner reviewed the application and determined that it meets the criteria for approval. Pursuant to the authority delegated to the FTZ Board Executive Secretary (15 CFR 400.36(f)), the application to establish Subzone 38V was approved on November 25, 2025, subject to the FTZ Act and the Board's regulations, including section 400.13, and further subject to FTZ 38's 2,000-acre activation limit.

Dated: November 25, 2025.
Elizabeth Whiteman,
Executive Secretary.

[FR Doc. 2025-21563 Filed 11-26-25; 8:45 am]

BILLING CODE 3510-DS-P